FEDERAL COMMUNICATIONS COMMISSION

47 CFR Part 13

[WT Docket No. 10-177; FCC 13-4]

Commercial Radio Operators

AGENCY: Federal Communications Commission.

ACTION: Final rule; announcement of effective date.

SUMMARY: In this document, the Federal Communications Commission (FCC) announces that the Office of Management and Budget (OMB) has approved, for a period of three years, the information collection associated with commercial radio licenses, as well as for Commercial Operator License Examination Managers (COLEM(s)) that administer commercial radio operator licenses across the United States.

DATES: The amendments to 47 CFR 13.9, 13.13(c), 13.17(b), 13.211(e) and 13.217 published at 78 FR 23150, April 18, 2013 became effective June 7, 2013.

FOR FURTHER INFORMATION CONTACT: Stana Kimball, Mobility Division, Wireless Telecommunications Bureau, (202) 418-1306 or via the Internet at: stanislava.kimball@fcc.gov.

SUPPLEMENTARY INFORMATION: This document announces that on June 7, 2013 OMB approved, for a period of three years, the information collection requirements contained in the Commission's Report and Order, FCC 13-4, published at 78 FR 23150, April 18, 2013. The OMB Control Number is 3060-0537. The Commission publishes this notice as an announcement of such approval.

Synopsis

As required by the Paperwork Reduction Act of 1995 (44 U.S.C. 3507), the FCC is notifying the public that on June 7, 2013 it received OMB approval for the information collection requirements contained in the modifications to the Commission's rules found in 47 CFR 13.9, 13.13(c), 13.17(b), 13.211(e) and 13.217.

Under 5 CFR 13.20, an agency may not conduct or sponsor a collection of information unless it displays a current, valid OMB Control Number.

No person shall be subject to any penalty for failing to comply with a collection of information subject to the Paperwork Reduction Act that does not display a current, valid OMB Control Number. The OMB Control Number is 3060-0537.

The foregoing notice is required by the Paperwork Reduction Act of 1995, Public Law 104-13, October 1, 1995, and 44 U.S.C. 3507.

The total annual reporting burdens and costs for the respondents are as follows:

OMB Control Number: 3060-0537.

OMB Approval Date: June 7, 2013.

OMB Expiration Date: June 30, 2016.

Title: Sections 13.9, 13.13(c), 13.17(b), 13.211(e) and 13.217, Commercial Operator License Examination Managers (COLEM) Records.

Form Number: N/A.

Type of Review: Revision of a currently approved collection.

Respondents: Business or other for-profit entities.

Number of Respondents and Responses: 9 respondents; 9 responses.

Estimated Time per Response: 0.44 hours up to 30 hours.

Frequency of Response: On occasion and semi-annual reporting requirements and recordkeeping requirements.

Obligation to Respond: Required to obtain or retain benefits. Statutory authority for this information collection is contained in 47 U.S.C. 154 and 303 of the Communications Act of 1934, as amended.

Total Annual Burden: 14,796 hours.

Total Annual Cost: N/A.

Privacy Impact Assessment: N/A.

Nature and Extent of Confidentiality: There is no need for confidentiality.

Needs and Uses: Each COLEM recovering fees from examinees must maintain records of expenses and revenues, frequency of examinations administered, and examination pass rates. Records must cover from January to December 31 of the preceding year and must be submitted as directed by the FCC. Each COLEM must retain records for three years and the records must be made available to the FCC upon request.

The records are journal entries showing revenues collected and expenses incurred. The records may be inspected by FCC field investigators. The records will provide a vehicle for the FCC to cancel the designation of a person or organization as an examination manager. If the information were not collected, it is conceivable that fraud and abuse could occur in the commercial operator examination program.

Federal Communications Commission.
Marlene H. Dortch,
Secretary.

[FR Doc. 2013-14764 Filed 6-20-13; 8:45 am]

BILLING CODE 6712-01-P